DEPARTMENT OF COMMERCE

International Trade Administration

Export Trade Certificate of Review

ACTION: Notice of issuance of an amended Export Trade Certificate of Review, Application No. 94-3A007.

SUMMARY: The Department of Commerce has issued an amended Export Trade Certificate of Review to Florida Citrus Exports, L.C. on May 8, 2000. Notice of issuance of the original Certificate was published in the Federal Register on March 8, 1995 (60 FR 12735).

FOR FURTHER INFORMATION CONTACT: Morton Schnabel, Director, Office of Export Trading Company Affairs, International Trade Administration, (202) 482-5131, oetca@ita.doc.gov. This is not a toll-free number.

SUPPLEMENTARY INFORMATION: Title III of the Export Trading Company Act of 1982 (15 U.S.C. 4001-21) authorizes the Secretary of Commerce to issue Export Trade Certificates of Review. The regulations implementing Title III are found at 15 CFR part 325 (1998).

The Office of Export Trading Company Affairs (“OETCA”) is issuing this notice pursuant to 15 CFR 325.6(b), which requires the Department of Commerce to publish a summary of a Certificate in the Federal Register. Under Section 305(a) of the Act and 15 CFR 325.11(a), any person aggrieved by the Secretary's determination may, within 30 days of the date of this notice, bring an action in any appropriate district court of the United States to set aside the determination on the ground that the determination is erroneous.

Description of Amended Certificate

Export Trade Certificate of Review No. 94-0007, was issued to Florida Citrus Exports, L.C. on February 23, 1995 (60 FR 12735, March 8, 1995), and lastly amended on May 5, 1998 (63 FR 25833, May 11, 1998).

USSC's Export Trade Certificate of Review has been amended to:

1. Add the following companies as new “Members” of the Certificate within the meaning of § 325.2(1) of the Regulations (15 CFR 325.2(1)): Harbor Island Citrus, Inc., Vero Beach, FL (Controlling Entity: First Atlantic Citrus, Inc., Vero Beach, FL); Minton Sun, Inc., Ft. Pierce, FL (Controlling Entity: Triple M Investment Company, Ft. Pierce, FL) and Seald Sweet LLC, Vero Beach, FL and

(2) Change the listing of the name of the “Member” Florida Fresh Citrus Sales, Inc. to River One International Marketing, Inc.

A copy of the amended certificate will be kept in the International Trade Administration's Freedom of Information Records Inspection Facility, Room 4102, U.S. Department of Commerce, 14th Street and Constitution Avenue, NW, Washington, DC 20230.

Dated: May 8, 2000.
Morton Schnabel,
Director, Office of Export Trading Company Affairs.

[FR Doc. 00-12049 Filed 5-11-00; 8:45 am]

BILLING CODE 3510-DR-P